DEPARTMENT OF JUSTICE

Notice of Lodging of Proposed Consent Decree Under the Clean Air Act

On September 14, 2020, the Department of Justice lodged a proposed consent decree with the United States District Court for the District of Columbia in United States v. Daimler AG and Mercedes-Benz USA, LLC, Civil Action No. 1:20-cv-2564.

The United States filed a complaint under Clean Air Act Sections 204 and 205, 42 U.S.C. 7523 and 7524, and regulations promulgated under Clean Air Act Section 202, 42 U.S.C. 7521, and codified at 40 CFR part 86, seeking injunctive relief and civil penalties for the Defendants' sale of over 250,000 diesel vans and passenger cars that the United States contends contain undisclosed auxiliary emission control devices and “defeat devices” installed in the vehicles' complex emission control systems to circumvent emissions testing. The United States simultaneously lodged a consent decree that would settle these claims and claims in a separate civil complaint filed by the California Resources Board (CARB) on the same day.

Under the proposed decree, the Defendants will have to (1) recall and repair, at no cost to consumers, at least 85 percent of the affected vans and at least 85 percent of the affected passenger cars to remove the defeat devices and bring the vehicles into compliance with applicable emissions standards; (2) perform a project to mitigate excess nitrogen oxides emitted from the affected vehicles in all states except the State of California; (3) pay $110,000 to CARB to fund mitigation projects in California; (4) reform corporate compliance measures to try to prevent future emissions cheating; and (5) pay an $875 million civil penalty. Of this amount, the Defendants must pay $743,750,000 to the United States and $131,250,000 to CARB.

The publication of this notice opens a period for public comment on the proposed consent decree. Comments should be addressed to the Assistant Attorney General, Environment and Natural Resources Division, and should refer to United States v. Daimler AG and Mercedes-Benz USA, LLC, D.J. Ref. No. 90-5-2-1-11788. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $37.00 (25 cents per page reproduction cost, excluding appendices) payable to the United States Treasury.

Lori Jonas,
Assistant Section Chief, Environmental Enforcement Section, Environment and Natural Resources Division.

[FR Doc. 2020-20866 Filed 9-21-20; 8:45 am]

BILLING CODE P